DEPARTMENT OF HEALTH AND HUMAN SERVICES

National Institutes of Health

Center for Scientific Review; Amended Notice of Meeting

Notice is hereby given of a change in the meeting of the Center for Scientific Review Special Emphasis Panel, April 1, 2004, 12 p.m. to April 1, 2004, 2 p.m., National Institutes of Health, 6701 Rockledge Drive, Bethesda, MD 20892, which was published in the Federal Register on March 15, 2004, 69 FR 12171-12173.

The meeting time has been changed to 3 p.m. to 5 p.m. The meeting date and location remain the same. The meeting is closed to the public.

Dated: March 19, 2004.
LaVerne Y. Stringfield,
Director, Office of Federal Advisory Committee Policy.

[FR Doc. 04-6839 Filed 3-25-04; 8:45 am]

BILLING CODE 4140-01-M